NUCLEAR REGULATORY COMMISSION

[NRC-2022-0160]

Monthly Notice; Applications and Amendments to Facility Operating Licenses and Combined Licenses Involving No Significant Hazards Considerations

AGENCY: Nuclear Regulatory Commission.

ACTION: Monthly notice.

SUMMARY: Pursuant to the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by October 6, 2022. A request for a hearing or petitions for leave to intervene must be filed by November 7, 2022. This monthly notice includes all amendments issued, or proposed to be issued, from July 22, 2022, to August 18, 2022. The last monthly notice was published on August 9, 2022.

ADDRESSES: You may submit comments by any of the following methods; however, the NRC encourages electronic comment submission through the Federal rulemaking website:

• Federal rulemaking website: Go to https://www.regulations.gov and search for Docket ID NRC-2022-0160. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kathleen Entz, Office of Nuclear Reactor Regulation, U.S. Nuclear Regulatory Commission, Washington, DC 20555-0001, telephone: 301-415-2464, email: Kathleen.Entz@nrc.gov.

SUPPLEMENTARY INFORMATION:

I. Obtaining Information and Submitting Comments

A. Obtaining Information

Please refer to Docket ID NRC-2022-0160, facility name, unit number(s), docket number(s), application date, and subject when contacting the NRC about the availability of information for this action. You may obtain publicly available information related to this action by any of the following methods:

• Federal Rulemaking Website: Go to https://www.regulations.gov and search for Docket ID NRC-2022-0160.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0160, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Florida Power & Light Company, et al.; St. Lucie Plant, Units 1 and 2; St. Lucie County, FL
Docket Nos | 50-335, 50-389.
Application date | September 15, 2021, as supplemented by letter dated January 19, 2022.
ADAMS Accession Nos | ML21265A284 (Package), ML22019A069.
Location in Application of NSHC | Volume 2, Enclosure 2, Pages 2-27.
Brief Description of Amendments | The amendments would revise technical specifications to improved standard technical specifications, consistent with NUREG-1432, “Standard Technical Specifications—Combustion Engineering Plants,” Revision 5.
Proposed Determination | NSHC.
Name of Attorney for Licensee, Mailing Address | Debbie Hendell, Managing Attorney—Nuclear, Florida Power & Light Company, 700 Universe Blvd., MS LAW/JB, Juno Beach, FL 33408-0420.
NRC Project Manager, Telephone Number | Natreon Jordan, 301-415-7410.
Holtec Decommissioning International, LLC; Palisades Nuclear Plant; Van Buren County, MI
Docket No | 50-255.
Application date | July 12, 2022.
ADAMS Accession No | ML22193A090.
Location in Application of NSHC | Page 13-14 (Section 5.2) of Enclosure.
Brief Description of Amendment | The proposed amendment would revise the Permanently Defueled Emergency Plan and Permanently Defueled Emergency Action Level scheme to alter the Palisades emergency planning requirements to be commensurate with the significantly reduced risk associated with the spent fuel stored in the Palisades spent fuel pool after it has sufficiently decayed, such that the radiological impact of accidents is not expected to result in radioactive releases that exceed U.S. Environmental Protection Agency Protective Action Guidelines beyond the site boundary.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Marlayna Doell, 301-415-3178.
Nine Mile Point Nuclear Station, LLC and Constellation Energy Generation, LLC; Nine Mile Point Nuclear Station, Unit 2; Oswego County, NY
Docket No | 50-410.
Application date | May 24, 2022.
ADAMS Accession No | ML22144A018.
Location in Application of NSHC | Pages 4-6 of Attachment 1.
Brief Description of Amendment | The proposed license amendment would revise the surveillance requirements (SR) associated with Nine Mile Point 2 Technical Specifications (TS) Section 3.8.1, “AC Sources—Operating,” to reduce the number of fast starts of the emergency diesel generators (EDGs). Specifically, TS SR 3.8.1.2 would be revised to identify the “Start Test” testing requirements for the EDGs. In addition, a new SR would be created to identify the “Fast-Start” testing requirements for the EDGs.
Proposed Determination | NSHC.
Name of Attorney for Licensee, Mailing Address | Jason Zorn, Associate General Counsel, Constellation Energy Generation, 101 Constitution Ave. NW, Washington, DC 20001.
NRC Project Manager, Telephone Number | Richard Guzman, 301-415-1030.
PSEG Nuclear LLC; Salem Nuclear Generating Station, Units 1 and 2; Salem County, NJ
Docket Nos | 50-272, 50-311.
Application date | June 29, 2022.
ADAMS Accession No | ML22180A268.
Location in Application of NSHC | Pages 28-29 of Enclosure.
Brief Description of Amendments | The proposed license amendments would revise the Salem Nuclear Generating Station, Units 1 and 2, Technical Specification Action 3.8.1.1.b.4 to extend the allowed outage time for an inoperable emergency diesel generator from 72 hours to 14 days.
Proposed Determination | NSHC.
Name of Attorney for Licensee, Mailing Address | Jodi Varon, PSEG Services Corporation, 80 Park Plaza, T-5, Newark, NJ 07102.
NRC Project Manager, Telephone Number | James Kim, 301-415-4125.
Southern Nuclear Operating Company, Inc.; Joseph M. Farley Nuclear Plant, Units 1 and 2; Houston County, AL
Docket Nos | 50-348, 50-364.
Application date | June 30, 2022.
ADAMS Accession No | ML22181B145.
Location in Application of NSHC | Pages E-7-E-9 of Enclosure 1.
Brief Description of Amendments | The proposed amendments would revise the as-found setpoint low side tolerance for the pressurizer safety valves described in the Joseph M. Farley Nuclear Plant, Units 1 and 2, Technical Specification 3.4.10, “Pressurizer Safety Valves.”
Proposed Determination | NSHC.
Name of Attorney for Licensee, Mailing Address | Millicent Ronnlund, Vice President and General Counsel, Southern Nuclear Operating Co., Inc., P.O. Box 1295, Birmingham, AL 35201-1295.
NRC Project Manager, Telephone Number | Stephanie Devlin-Gill, 301-415-5301.
Southern Nuclear Operating Company, Inc.; Vogtle Electric Generating Plant, Units 1 and 2; Burke County, GA
Docket Nos | 50-424, 50-425.
Application date | June 30, 2022.
ADAMS Accession No | ML22181B066.
Location in Application of NSHC | Pages E-29 to E-33 of Enclosure.
Brief Description of Amendments | The amendments would revise the licensing basis to support a selective scope application of the Alternative Source Term radiological analysis methodology and modifies Technical Specification (TS) 1.1, “Definitions;” TS 3.3.6, “Containment Ventilation Isolation Instrumentation;” TS 3.4.16, “RCS [Reactor Coolant System] Specific Activity;” TS 3.9.1, “Boron Concentration;” TS 3.9.2, “Unborated Water Source Isolation Valves;” TS 3.9.3, “Nuclear Instrumentation;” and TS 3.9.4, “Containment Penetrations;” consistent with Technical Specifications Task Force (TSTF) Travelers TSTF-51-A, “Revise containment requirements during handling irradiated fuel and core alterations,” Revision 2; TSTF-471-A, “Eliminate use of term CORE ALTERATIONS in ACTIONS and Notes,” Revision 1; and TSTF-490-A, “Deletion of E Bar Definition and Revision to RCS Specific Activity Tech Spec,” Revision 0.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket Nos | 50-259, 50-260, 50-296, 50-327, 50-328, 50-390, 50-391.
Application date | July 13, 2022.
ADAMS Accession No | ML22196A366.
Location in Application of NSHC | Pages E2-E4 of Enclosure.
Brief Description of Amendments | The proposed amendments would revise each plant's technical specification definition of “Leakage,” clarify the requirements when pressure boundary leakage is detected, and add a Required Action when pressure boundary leakage is identified. The requested changes are in accordance with Technical Specification Task Force (TSTF) Traveler TSTF-554-A, Revision 1, “Revise Reactor Coolant Leakage Requirements,” which is part of the Consolidated Line Item Improvement Process.
Proposed Determination | NSHC.
Name of Attorney for Licensee, Mailing Address | David Fountain, Executive VP and General Counsel, Tennessee Valley Authority, 400 West Summit Hill Drive, WT 6A, Knoxville, TN 37902.
NRC Project Manager, Telephone Number | Perry Buckberg, 301-415-1383.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket Nos | 50-259, 50-260, 50-296, 50-327, 50-328, 50-390, 50-391.
Application date | June 13, 2022.
ADAMS Accession No | ML22164A806.
Location in Application of NSHC | Pages E3-E4 of Enclosure.
Brief Description of Amendments | The proposed amendments would revise Section 1.3, “Completion Times,” and Section 3.0, “Limiting Condition for Operation (LCO) Applicability” and “Surveillance Requirement (SR) Applicability,” of each plant's technical specifications (TSs) to clarify the use and application of the TS usage rules and revise the application of SR 3.0.3 by adopting Technical Specification Task Force (TSTF) Traveler TSTF-529, Revision 4, “Clarify Use and Application Rules.” Specifically, TS Section 1.3 would be revised to clarify “discovery,” and discuss exceptions to starting the Completion Time at condition entry; TS Section 3.0 would be revised to clarify that LCO 3.0.4.a, LCO 3.0.4.b, and LCO 3.0.4.c are independent options; and SR 3.0.3 would be revised to allow application of SR 3.0.3 when an SR has not been previously performed and to clarify the application of SR 3.0.3.
Proposed Determination | NSHC.
Name of Attorney for Licensee, Mailing Address | David Fountain, Executive VP and General Counsel, Tennessee Valley Authority, 400 West Summit Hill Drive, WT 6A, Knoxville, TN 37902.
NRC Project Manager, Telephone Number | Perry Buckberg, 301-415-1383.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Application date | July 27, 2022.
ADAMS Accession No | ML22209A002.
Location in Application of NSHC | Pages E5-E6 of Enclosure.
Brief Description of Amendments | The proposed amendments would revise each plant's Technical Specification 3.4.12 by adding a note to the Limiting Condition for Operation regarding pump testing.
Proposed Determination | NSHC.
Name of Attorney for Licensee, Mailing Address | David Fountain, Executive VP and General Counsel, Tennessee Valley Authority, 400 West Summit Hill Drive, WT 6A, Knoxville, TN 37902.
NRC Project Manager, Telephone Number | Perry Buckberg, 301-415-1383.
Virginia Electric and Power Company; Surry Power Station, Units 1 and 2; Surry County, VA
Docket Nos | 50-280, 50-281.
Application date | June 20, 2022.
ADAMS Accession No | ML22171A013.
Location in Application of NSHC | Pages 8-9 of Attachment 1.
Brief Description of Amendments | The amendments propose to delete expired license conditions, make administrative changes, and correct editorial errors.
Proposed Determination | NSHC.
Name of Attorney for Licensee, Mailing Address | W.S. Blair, Senior Counsel, Dominion Resource Services, Inc., 120 Tredegar St., RS-2, Richmond, VA 23219.
NRC Project Manager, Telephone Number | John Klos, 301-415-5136.
Virginia Electric and Power Company; Surry Power Station, Units 1 and 2; Surry County, VA
Docket Nos | 50-280, 50-281.
Application date | May 11, 2022, as supplemented by letter dated July 11, 2022.
ADAMS Accession Nos | ML22131A351, ML22192A075.
Location in Application of NSHC | Pages 10-12 of Attachment 1.
Brief Description of Amendments | The amendments propose to apply a risk-informed approach to demonstrate that the Fuel Handling Trolley Support Structure, as designed, meets the intent of a tornado resistant structure under the current licensing basis for a 360 miles per hour maximum tornado wind speed.
Proposed Determination | NSHC.
Name of Attorney for Licensee, Mailing Address | W.S. Blair, Senior Counsel, Dominion Resource Services, Inc., 120 Tredegar St., RS-2, Richmond, VA 23219.
NRC Project Manager, Telephone Number | John Klos, 301-415-5136.
Virginia Electric and Power Company; Surry Power Station, Units 1 and 2; Surry County, VA
Docket Nos | 50-280, 50-281.
Application date | June 20, 2022, as supplemented by letter dated August 8, 2022.
ADAMS Accession Nos | ML22172A134, ML22220A216.
Location in Application of NSHC | Pages 21 to 24 of Attachment 1.
Brief Description of Amendments | The amendments propose to revise Technical Specification 3.6.1.2 to include a 10-day Allowed Outage Time for opposite unit cross-connect capability of the Auxiliary Feedwater System.
Proposed Determination | NSHC.
Name of Attorney for Licensee, Mailing Address | W.S. Blair, Senior Counsel, Dominion Resource Services, Inc., 120 Tredegar St., RS-2, Richmond, VA 23219.
NRC Project Manager, Telephone Number | John Klos, 301-415-5136.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Arizona Public Service Company, et al.; Palo Verde Nuclear Generating Station, Units 1, 2, and 3; Maricopa County, AZ
Docket Nos | 50-528, 50-529, 50-530.
Amendment Date | August 11, 2022.
ADAMS Accession No | ML22178A004.
Amendment Nos | 219 (Unit 1), 219 (Unit 2), and 219 (Unit 3).
Brief Description of Amendments | The amendments revised technical specifications (TSs) to adopt Technical Specifications Task Force (TSTF) Traveler TSTF-567, “Add Containment Sump TS to Address GSI [Generic Safety Issue]-191 Issues,” for Palo Verde Nuclear Generating Station, Units 1, 2, and 3. The amendments added a new TS 3.6.7, “Containment Sump,” that includes an Action to address the condition of the containment sump made inoperable due to containment accident generated and transported debris exceeding the analyzed limits. The Action provided time to correct or evaluate the condition in lieu of an immediate plant shutdown. The NRC issued a final safety evaluation approving TSTF-567, on July 3, 2018 (ADAMS Package Accession No. ML18109A077).
Public Comments Received as to Proposed NSHC (Yes/No) | No.
Constellation FitzPatrick, LLC and Constellation Energy Generation, LLC; James A. FitzPatrick Nuclear Power Plant; Oswego County, NY
Docket No | 50-333.
Amendment Date | July 15, 2022.
ADAMS Accession No | ML22166A430.
Amendment No | 351.
Brief Description of Amendment | The amendment modified the technical specifications (TS) to eliminate the response time testing requirements for TS Section 3.3.1.1, “Reactor Protection System (RPS) Instrumentation,” Reactor Pressure—High function, Reactor Vessel Water Level—Low (Level 3) function and TS Section 3.3.6.1, “Primary Containment Isolation Instrumentation” Reactor Vessel Water Level—Low Low Low (Level 1) function, Main Steam Line Pressure—Low function and Main Steam Line Flow—High function. The changes are consistent with the Boiling-Water Reactor Owner's Group Licensing Topical report as approved by the NRC. The amendment also deleted Surveillance Requirement 3.3.6.1.8.
Public Comments Received as to Proposed NSHC (Yes/No) | No.
Duke Energy Progress, LLC; H.B. Robinson Steam Electric Plant, Unit No. 2; Darlington County, SC
Docket No | 50-261.
Amendment Date | August 3, 2022.
ADAMS Accession No | ML22159A295.
Amendment No | 271.
Brief Description of Amendment | The amendment revised Technical Specification (TS) 3.4.3, “RCS Pressure and Temperature (P/T) Limits.” Specifically, a portion of TS Figure 3.4.3-2 (P/T limit cooldown curves) was corrected because it did not reflect the data approved in Amendment No. 248.
Public Comments Received as to Proposed NSHC (Yes/No) | No.
Duke Energy Progress, LLC; Shearon Harris Nuclear Power Plant, Unit 1; Wake and Chatham Counties, NC
Docket No | 50-400.
Amendment Date | August 9, 2022.
ADAMS Accession No | ML22126A008.
Amendment No | 194.
Brief Description of Amendment | The amendment revised Technical Specification 3.3.1, “Reactor Trip System Instrumentation,” to adjust the reactor trip on turbine trip interlock from P-7 (Low Power Reactor Trips Block) to P-8 (Power Range Neutron Flux).
Public Comments Received as to Proposed NSHC (Yes/No) | No.
National Institute of Standards and Technology, Center for Neutron Research Test Reactor, Montgomery County, Maryland
Docket No | 50-184.
Amendment Date | July 21, 2022.
ADAMS Accession No | ML22181A128.
Amendment No | 13.
Brief Description of Amendment | This amendment revised Technical Specification 3.9.2 removing permission to use height checks to verify latching of fuel elements. The amendment also added the requirement to perform a rotational check of the fuel element head followed by a visual inspection of the latching mechanism orientation. The revised technical specification provides additional confidence that the fuel element is positioned properly in the core to ensure adequate cooling flow to the element during reactor operations.
Public Comments Received as to Proposed NSHC (Yes/No) | No.
Northern States Power Company—Minnesota; Prairie Island Nuclear Generating Plant, Units 1 and 2; Goodhue County, MN
Docket Nos | 50-282, 50-306.
Amendment Date | July 28, 2022.
ADAMS Accession No | ML22166A389.
Amendment Nos | 239 (Unit 1) and 227 (Unit 2).
Brief Description of Amendments | The amendments revised the technical specifications to accommodate a 24-month fuel cycle with a 25 percent grace period to permit up to 30 months to complete surveillance requirements.
Public Comments Received as to Proposed NSHC (Yes/No) | No.
Northern States Power Company—Minnesota; Prairie Island Nuclear Generating Plant, Units 1 and 2; Goodhue County, MN
Docket Nos | 50-282, 50-306.
Amendment Date | August 17, 2022.
ADAMS Accession No | ML22181A000.
Amendment Nos | 240 (Unit 1) and 228 (Unit 2).
Brief Description of Amendments | The amendments revised Technical Specification 3.3.1, “Reactor Trip System (RTS) Instrumentation” for the Power Range RTS instrumentation channels.
Public Comments Received as to Proposed NSHC (Yes/No) | No.
PSEG Nuclear LLC; Hope Creek Generating Station; Salem County, NJ
Docket No | 50-354.
Amendment Date | August 10, 2022.
ADAMS Accession No | ML22194A817.
Amendment No | 232.
Brief Description of Amendment | The amendment revised Technical Specifications (TS) Surveillance Requirement (SR) 4.8.4.4.a and SR 4.8.4.6.a, which describe performance of a Channel Functional Test for the Reactor Protection System and Power Range Neutron Monitoring System Electric Power Monitoring Channels, respectively. The amendment relocated the Mode requirements for performance of the SR to a separate Note in the TS and relocated the surveillance frequency to the licensee control. This change controls the frequency of performance of the SR via the Surveillance Frequency Control Program.
Public Comments Received as to Proposed NSHC (Yes/No) | No.
Susquehanna Nuclear, LLC and Allegheny Electric Cooperative, Inc.; Susquehanna Steam Electric Station, Units 1 and 2; Luzerne County, PA
Docket Nos | 50-387, 50-388.
Amendment Date | July 15, 2022.
ADAMS Accession No | ML22146A207.
Amendment Nos | 281 (Unit 1) and 264 (Unit 2).
Brief Description of Amendments | The amendments adopted Technical Specification Task Force (TSTF) Traveler TSTF-564, “Safety Limit MCPR [Minimum Critical Power Ratio],” Revision 2, which revised the technical specification safety limit on MCPR to reduce the need for cycle-specific changes to the value while still meeting the regulatory requirement for a safety limit.
Public Comments Received as to Proposed NSHC (Yes/No) | No.
Wolf Creek Nuclear Operating Corporation; Wolf Creek Generating Station, Unit 1; Coffey County, KS
Docket No | 50-482.
Amendment Date | August 16, 2022.
ADAMS Accession No | ML22199A294.
Amendment No | 233.
Brief Description of Amendment | The amendment removed the Table of Contents from the Wolf Creek Generating Station, Unit 1, Technical Specifications and placed it under the licensee's control.
Public Comments Received as to Proposed NSHC (Yes/No) | No.

Dated: August 30, 2022.
For the Nuclear Regulatory Commission.
Jacob I. Zimmerman,
Acting Deputy Director, Division of Operating Reactor Licensing, Office of Nuclear Reactor Regulation.

[FR Doc. 2022-19025 Filed 9-2-22; 8:45 am]

BILLING CODE 7590-01-P